ENVIRONMENTAL PROTECTION AGENCY

40 CFR Part 52

[EPA-R03-OAR-2020-0325; FRL-10118-03-R3]

Air Plan Approval; Maryland; Clean Data Determination and Approval of Select Attainment Plan Elements for the Anne Arundel County and Baltimore County, Maryland Sulfur Dioxide Nonattainment Area; Extension of Comment Period

AGENCY: Environmental Protection Agency (EPA).

ACTION: Proposed rule; extension of public comment period.

SUMMARY: On August 19, 2022, the U.S. Environmental Protection Agency (EPA) published a proposed rule determining that the Anne Arundel County and Baltimore County, Maryland sulfur dioxide (SO2) nonattainment area attained the 2010 primary SO2 national ambient air quality standard (2010 SO2 NAAQS) under EPA's Clean Data Policy using a clean data determination (CDD). EPA simultaneously proposed to approve certain elements of the attainment plan contained in Maryland's state implementation plan (SIP) revision for the Anne Arundel County and Baltimore County SO2 nonattainment area, submitted to EPA on January 31, 2020. Additionally, EPA proposed to approve as SIP strengthening measures certain emission limit requirements on large SO2 emission sources that were submitted as part of Maryland's attainment plan for the nonattainment area. EPA inadvertently failed to upload the supporting and related materials in the docket simultaneously with the publication of the notice of proposed rulemaking (NPRM) on August 19, 2022 (87 FR 51006). The supporting and related materials were added to the docket on August 29, 2022. To ensure that the public has adequate time and information to submit comments, EPA is extending the comment period for ten days to September 29, 2022. This action is being taken under the Clean Air Act (CAA).

DATES: The public comment period for the proposal published in the Federal Register on August 19, 2022 (87 FR 51006) is extended from September 19, 2022 to September 29, 2022. Written comments must be received on or before September 29, 2022.

ADDRESSES: Submit your comments, identified by Docket ID No. EPA-R03-OAR-2020-0325 at www.regulations.gov, or via email to gordon.mike@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the For Further Information Contact section. For the full EPA public comment policy, information about CBI or multimedia submissions, and general guidance on making effective comments, please visit www.epa.gov/dockets/commenting-epa-dockets.

FOR FURTHER INFORMATION CONTACT: Brian Rehn, Planning & Implementation Branch (3AD30), Air & Radiation Division, U.S. Environmental Protection Agency, Region III, Four Penn Center, 1600 John F. Kennedy Boulevard, Philadelphia, Pennsylvania 19103. The telephone number is (215) 814-2176. Mr. Rehn can also be reached via electronic mail at rehn.brian@epa.gov.

SUPPLEMENTARY INFORMATION:

On August 19, 2022, the EPA published a proposed rule taking several actions (87 FR 51006). First, the EPA proposed under its Clean Data Policy to determine that the Anne Arundel County and Baltimore County, Maryland SO2 nonattainment area has attained the 2010 SO2 NAAQS through a CDD. If finalized, this proposed CDD would suspend the obligation to submit certain attainment planning requirements for the nonattainment area for as long as the area continues to attain the 2010 SO2 NAAQS. Second, the EPA proposed to approve certain elements of the attainment plan contained in Maryland's SIP revision for the Anne Arundel County and Baltimore County SO2 nonattainment area, submitted to EPA on January 31, 2020. The requirement to submit the elements that EPA is proposing to approve would not be suspended under this proposed CDD, as set forth in EPA's Clean Data Policy, because EPA considers them to be independent of attaining the NAAQS under the CAA. Finally, EPA is approving as SIP strengthening measures certain emission limit requirements on large SO2 emission sources that were submitted as part of Maryland's attainment plan for the nonattainment area. This determination of attainment and approval of certain elements and emissions limitations into the SIP does not redesignate the Area to attainment or constitute a full approval of the submitted attainment plan or of a maintenance plan.

The NPRM was published on August 19, 2022, and specified that the comment period would end on September 19, 2022. However, the supporting materials were not made available in the docket until August 29, 2022 (ten days after publication).

To ensure the public and interested parties have sufficient time to review the associated docket materials and submit comment on the NPRM, the EPA is extending the comment period an additional 10 days to September 29, 2022 to account for the delay in posting the supporting and related materials.

Adam Ortiz,
Regional Administrator, Region III.

[FR Doc. 2022-20080 Filed 9-15-22; 8:45 am]

BILLING CODE 6560-50-P